DEPARTMENT OF DEFENSE

GENERAL SERVICES ADMINISTRATION

NATIONAL AERONAUTICS AND SPACE ADMINISTRATION

48 CFR Part 31

Federal Acquisition Regulation; Reimbursement of Relocation Costs on a Lump-Sum Basis

AGENCIES: Department of Defense (DoD), General Services Administration (GSA), and National Aeronautics and Space Administration (NASA).

ACTION: Notice of public meeting.

SUMMARY: The Civilian Agency Acquisition Council and the Defense Acquisition Regulations Council (Councils) are sponsoring a public meeting to discuss revising FAR 31.205-35, Relocation costs, to permit contractors the option of claiming employee relocation costs based on actual costs or on an appropriate lump-sum basis. A notice requesting public comments on the matter was published in the Federal Register at 67 FR 65468, October 24, 2002. After reviewing the public comments that were submitted, the councils would like to explore further the views of interested parties. Copies of the nine public comments can be viewed or printed from http://www.arnet.gov/far/ProposedRules/. Should the Councils decide to draft a proposed rule, an additional 60-day public comment period will be provided.

DATES: The public meeting will be held on February 6, 2003, at 9 a.m.

ADDRESSES: The public meeting will be held in the Rachel Carson Room, Department of Interior, 1849 C Street, NW., Washington, DC. The Rachel Carson Room is in the basement, next to the cafeteria. Closest Metro access is from the Farragut West station.

FOR FURTHER INFORMATION CONTACT: The FAR Secretariat, Room 4035, GS Building, Washington, DC, 20405, at (202) 501-4755 for information pertaining to the notice. For clarification of content, contact Mr. Jeremy Olson, at (202) 501-3221. Please cite Reimbursement of Relocation Costs on a Lump-Sum Basis (Notice).

Dated: January 21, 2003.
Al Matera,
Director, Acquisition Policy Division.

[FR Doc. 03-1715 Filed 1-24-03; 8:45 am]

BILLING CODE 6820-EP-P